DEPARTMENT OF VETERANS AFFAIRS

[OMB Control No. 2900-0760]

Agency Information Collection Activity Under OMB Review: Paralympics & Olympics Monthly Training Allowance Application and Certification

AGENCY: Veterans Health Administration, Department of Veterans Affairs.

ACTION: Notice.

SUMMARY: In compliance with the Paperwork Reduction Act (PRA) of 1995, this notice announces that the Veterans Health Administration (VHA), Department of Veterans Affairs, will submit the collection of information abstracted below to the Office of Management and Budget (OMB) for review and comment. The PRA submission describes the nature of the information collection and its expected cost and burden, and it includes the actual data collection instrument.

DATES: Comments and recommendations for the proposed information collection should be sent within 30 days of publication of this notice by clicking on the following link www.reginfo.gov/public/do/PRAMain, select “Currently under Review—Open for Public Comments”, then search the list for the information collection by Title or “OMB Control No. 2900-0760.”

FOR FURTHER INFORMATION CONTACT:

Program-specific information: Veta Brooks-Berryman, 202-480-4633, Veta.Brooks1@va.gov.

VA PRA information: Maribel Aponte, 202-461-8900, vacopaperworkreduact@va.gov.

SUPPLEMENTARY INFORMATION:

Title: Paralympics & Olympics Monthly Training Allowance Application and Certification (VA Forms 0918a & 0918b).

OMB Control Number: 2900-0760. https://www.reginfo.gov/public/do/PRASearch.

Type of Review: Revision of a currently approved collection.

Abstract: Section 703 of the Veterans' Benefits Improvement Act of 2008, Public Law 110-389, authorizes the Department of Veterans Affairs (VA) to administer a monthly assistance allowance to a veteran with a service-connected or non-service-connected disability if the veteran is competing for a slot on or selected for the United States Paralympics and Olympics team or is residing at a United States Paralympics or Olympics training center. The Office of National Veterans Sports Programs and Special Events will use VA Forms 0918a and 0918b to collect information to certify eligibility for the monthly assistance allowance, verify the veteran's mailing address, confirm that he or she has been accepted by the Paralympics or Olympics to compete in a specific Paralympic or Olympic sport, and to determine their marital status and number of dependents for the purpose of assessing payment amounts.

An agency may not conduct or sponsor, and a person is not required to respond to a collection of information unless it displays a currently valid OMB control number. The Federal Register Notice with a 60-day comment period soliciting comments on this collection of information was published at 89 FR 46993, May 30, 2024.

Affected Public: Individuals or Households.

Estimated Annual Burden: 43 hours.

Estimated Average Burden per Respondent: 15 minutes.

Frequency of Response: Once annually.

Estimated Number of Respondents: 170.

Authority: 44 U.S.C. 3501 et seq.

Maribel Aponte,
VA PRA Clearance Officer, Office of Enterprise and Integration, Data Governance Analytics, Department of Veterans Affairs.

[FR Doc. 2024-17215 Filed 8-2-24; 8:45 am]

BILLING CODE 8320-01-P